DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held December 13, 2006 starting at 9 a.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Program Management Committee meeting. The agenda will include:

• December 13:

• Opening Session (Welcome and Introductory Remarks, Review/Approve Summary of Previous Meeting)

• Publication Consideration/Approval:

• Final Draft, Minimum Operational Performance Standards (MOPS) for Traffic Alert and Collision Avoidance System II (TCAS II) Hybrid Surveillance, RTCA Paper No. 251-06/PMC-475, prepared by SC-147.

• Final Draft, Revised DO-229C, Minimum Operational Performance Standards for Global Positioning System/Wide Area Augmentation System Airborne Equipment, RTCA Paper No. 252-06/PMC-476, prepared by SC-159.

• Final Draft, Minimum Operational Performance Standards for Global Navigation Satellite System (GNSS) Airborne Active Antenna Equipment for the LI Frequency Band, RTCA Paper No. 253-05/PMC-477, prepared by SC-159.

• Final Draft, Minimum Operational Performance Standards (MOPS) for Surveillance Transmit Processing (STP), RTCA Paper No. 254-05/PMC-478, prepared by SC-186.

• Final Draft, Change 1 to DO-242A, Minimum Aviation System Performance Standards for Automatic Dependent Surveillance Broadcast (ADS-B), RTCA Paper No. 255-06/PMC-479, prepared by SC-186.

• Final Draft, Change 2 to DO-260A, Minimum Operational Performance Standards for 1090 MHz Extended Squitter Automatic Dependent Surveillance-Broadcast (ADS-B) and Traffic Information Services—Broadcast (TIS-B), RTCA Paper No. 256-06/PMC-480, prepared by SC-186.

• Final Draft, Change 1 to DO-282A, Minimum Operational Performance Standards for Universal Access Transceiver (UAT) Automatic Dependent Surveillance—Broadcast, RTCA Paper No. 257-06/PNC-481, prepared by SC-186.

• Final Draft, Change 1 to DO-289, Minimum Aviation System Performance Standards (MASPS) for Aircraft Surveillance Applications (ASA), RTCA Paper No. 258-06/PMC-482, prepared by SC-186.

• Final Draft, Safety, Performance and Interoperability Requirements Document for the ADS-B Non-Radar-Airspace (NRA) Application, RTCA Paper No. 259-06/PMC-483, prepared by SC-186.

• Final Draft, Change 1 to DO-290, Safety and Performance Requirements Standard for Air Traffic Data Link Services in Continental Airspace (Continental SPR Standard), RTCA Paper No. 260-06/PMC-484, prepared by SC-189.

• Final Draft, Revised DO-294A, Guidance on Allowing Transmitting Portable Electronic Devices (T-PEDs) on Aircraft, RTCA Paper No. 261-06/PMC-485, prepared by SC-202.

• Final Draft, Change 1 to DO-293, Minimum Operational Performance Standards for Nickel-Cadmium and Lead Acid Batteries, RTCA Paper No. 262-06/PMC-486, prepared by SC-211.

• Discussion:

• EUROCAE WG68—Altimetry

• Review EUROCAE Initiative and Status

• Special Committee Chairman's Reports

• Action Item Review:

• Synthetic Vision Systems (SVS)—Discussion—Possible New Committee Request—Status

• SC-147—Traffic Alert & Collision Avoidance System—Discussion—Discussion

• FAA Update on activities that affect the work of SC-147

• EUROCAE WG-75 TCAS Activity

• PMC Ad Hoc Subgroup Report

• SC-203—Unmanned Aircraft Systems (UAS)—Discussion—Status Review

• SC-205—Software Considerations—Discussion—Status Review

• Cabin Management Systems—Discussion—Status

• Closing Session (Other Business, Document Production, Date and Place of Next Meeting, Adjourn)

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 15, 2006.
Francisco Estrada C.,
RTCA Advisory Committee.

[FR Doc. 06-9367 Filed 11-22-06; 8:45 am]

BILLING CODE 4910-13-M